FEDERAL COMMUNICATIONS COMMISSION

[DA 24-801; FR ID 238977]

Consumer Advisory Committee; Announcement of Meeting

AGENCY: Federal Communications Commission.

ACTION: Notice.

SUMMARY: In this document, the Commission announces the third meeting of the twelfth term of its Consumer Advisory Committee (CAC or Committee).

DATES: Tuesday, September 24, 2024. The meeting will come to order at 1:00 p.m. Eastern Time.

ADDRESSES: The CAC meeting will be held in-person at the Commission's headquarters located at 45 L ST NE, Washington, DC 20554. Video and audio coverage will be provided at: www.fcc.gov/live.

FOR FURTHER INFORMATION CONTACT: Keyla Hernandez-Ulloa, Designated Federal Officer, Federal Communications Commission, via email: cac@fcc.gov.

SUPPLEMENTARY INFORMATION: This meeting is open to members of the general public. The in-person meeting will have sign language interpreters. The webcast will have sign language interpreters and open captioning at: www.fcc.gov/ live. In addition, a reserved amount of time will be available on the agenda for comments and inquiries from the public. Members of the public will be able to provide comments either in person if they are attending the meeting or by sending their questions or comments to livequestions@fcc.gov. These comments or questions may be addressed during the public comment period.

Requests for other reasonable accommodations or for materials in accessible formats for people with disabilities should be submitted via email to: fcc504@fcc.gov or by calling the Consumer and Governmental Affairs Bureau at (202) 418-0530. Such requests should include a detailed description of the accommodation needed and a way for the FCC to contact the requester if more information is needed to fill the request. Requests should be made as early as possible; last minute requests will be accepted but may not be possible to accommodate.

Proposed Agenda: At this meeting, CAC members are expected to present a report in response to its charge from the FCC. Presentations will be led by the Chairs of Working Group 1—Technical and Working Group 2—Outreach and Education. The presentations will be followed by a full Committee discussion. The report will include content based on the CAC's charge to address the implication of emerging artificial intelligence (AI) technologies on consumer privacy and protection, including how AI can help protect vulnerable consumer populations from unwanted and illegal calls, along with other consumer protection issues. The meeting agenda will be available at https://www.fcc.gov/consumer-advisory-committee and may be modified at the discretion of the CAC Co-Chairs and Designated Federal Officer (DFO).

Federal Communications Commission.
Robert A. Garza,
Legal Advisor, Consumer and Governmental Affairs Bureau.

[FR Doc. 2024-18552 Filed 8-19-24; 8:45 am]

BILLING CODE 6712-01-P